DEPARTMENT OF THE INTERIOR

Fish and Wildlife Service

[FWS-R1-ES-2009-N123; 14420-1115-1SGR-A2]

Endangered and Threatened Wildlife and Plants; Permit Application; Greater Sage-Grouse; Washington, Adams, Gem, and Payette Counties, Idaho

AGENCY: Fish and Wildlife Service, Interior.

ACTION: Receipt of application for enhancement of survival permit; notice of availability of programmatic candidate conservation agreement with assurances and draft environmental assessment.

SUMMARY: We, the U.S. Fish and Wildlife Service (Service), announce receipt of an application for an enhancement of survival permit (permit) under section 10(a)(1)(A) of the Endangered Species Act of 1973, as amended (ESA). The permit application includes a proposed programmatic candidate conservation agreement with assurances (CCAA) for the Greater sage grouse (Centrocercus urophasianus; hereafter, sage-grouse) between us and the Idaho Department of Fish and Game (IDFG). The term of the proposed CCAA is 30 years, and the requested term of the permit is 30 years. Consistent with the requirements of the National Environmental Policy Act of 1969 (NEPA), we have prepared a draft environmental assessment (EA) of the impacts of the proposed CCAA and permit application. We are accepting comments on the application, the proposed CCAA, and the draft EA.

DATES: We will consider comments we receive on or before August 24, 2009.

ADDRESSES: Address any written comments concerning this notice to Kendra Womack, Idaho Fish and Wildlife Office, U.S. Fish and Wildlife Service, 1387 S Vinnell Way, Room 368, Boise, ID 83709. Alternatively, fax written comments to 208-378-5262, or e-mail comments to fw1srbocomment@fws.gov.

FOR FURTHER INFORMATION CONTACT: Kendra Womack, 208-378-5243. If you use a telecommunications device for the deaf (TDD), you may call the Federal Information Relay Service (FIRS) at 800-877-8339.

SUPPLEMENTARY INFORMATION:

Document Availability

Copies of the permit application, the draft CCAA, and the draft EA are available for public inspection, by appointment, at the Idaho Fish and Wildlife Office (see ADDRESSES), or you may view them on the Internet at http://www.fws.gov/idaho. We furnish this notice to provide the public, other State and Federal agencies, and interested Tribes an opportunity to review and comment on the draft CCAA, permit application, and draft EA.

Public Availability of Comments

Before including your address, phone number, e-mail address, or other personal identifying information in your comment, you should be aware that your entire comment—including your personal identifying information—may be made publicly available at any time. While you can ask us in your comment to withhold your personal identifying information from public review, we cannot guarantee that we will be able to do so.

Background

Candidate Conservation Agreements with Assurances encourage non-Federal property owners to implement conservation efforts for candidate or at-risk species by assuring property owners they will not be subjected to increased property use restrictions if the covered species becomes listed in the future. Application requirements and issuance criteria for enhancement of survival permits through CCAAs are in the Code of Regulations (CFR) at 50 CFR 17.22(d) and 17.32(d), respectively. See also our joint policy on CCAAs, which we published in the Federal Register with the Department of Commerce's National Oceanic and Atmospheric Administration, National Marine Fisheries Service (64 FR 32726; June 17, 1999).

The proposed CCAA is programmatic in nature, and, under it, individual property owners who wish to participate would enroll their properties under the IDFG's section 10(a)(1)(A) permit through the issuance of a Certificate of Inclusion. The individual property owner would work with IDFG and us to develop a mutually agreeable site-specific management plan for the enrolled property. The site-specific plan will address known threats to sage-grouse through the implementation of identified conservation measures that are consistent with the participating landowner's land use activities and the CCAA. If a Certificate of Inclusion is signed and issued to a participating property owner, they would then be authorized to incidentally take sage-grouse if the species becomes listed under the ESA in the future, as long as the terms and conditions of the permit and the existing site-specific plan are followed.

The area to be covered under this proposed CCAA (Covered Area) is approximately 930,000 acres (ac) located in the West Central Planning Area (WCPA) in Washington, Adams, Gem, and Payette Counties, Idaho. Within the Covered Area, approximately 590,707 ac is non-Federally owned and would potentially be eligible for enrollment under the proposed CCAA. Sage grouse use habitats throughout the WCPA, including lekking (breeding display) areas, and nesting, brood rearing, and wintering habitats. Accurate estimates of the number of sage-grouse in the WCPA are not available.

The proposed CCAA identifies important sage-grouse use areas using a combination of known lek locations, and yearlong telemetry data identifying nesting, brood-rearing, and wintering habitats. The proposed CCAA also assumes that there are some areas where land uses or historic events have reduced habitat values so that they are no longer used by sage-grouse. However, the inherent physical factors and proximity to currently used habitat may make these areas candidates for restoration efforts.

The proposed CCAA is intended to result in benefits to sage-grouse by reducing or eliminating threats to the species on enrolled properties, and creating or maintaining habitat conditions that are suitable for all life-history stages of the species through the implementation of conservation measures. The proposed CCAA describes all of the threats to sage-grouse that have been identified in the WCPA, and a suite of potential conservation actions that could be implemented to address those threats. The conservation measures that would be implemented on any enrolled property would be identified in a site-specific conservation plan for that property. Activities that are covered under the CCAA and may be included in a site-specific plan as applicable include range and livestock management, farming operations, recreational activities, and general ranch operation and maintenance. These activities are described in more detail in the proposed CCAA.

Consistent with our CCAA Policy (64 FR 32726), the conservation goal of the proposed CCAA is to encourage enhancement and protection of suitable sage-grouse habitat on non-Federal lands by either maintaining or modifying existing land uses so that they are consistent with the conservation needs of sage-grouse. We can meet this conservation goal with the use of a CCAA by giving non-Federal landowners incentives to implement conservation measures, primarily through regulatory certainty concerning land-use restrictions that might otherwise apply should sage-grouse become listed under the ESA.

We provide this notice under section 10(c) of the ESA (16 U.S.C. 1531 et seq.) and the implementing regulations for NEPA (40 CFR 1506.6). We will evaluate the permit application, associated documents, and comments we receive to determine whether the permit application meets the requirements of section 10(a) of the ESA and NEPA and its implementing regulations. If we determine that all requirements are met, we will sign the proposed CCAA and issue a permit under section 10(a)(1)(A) of the ESA to the IDFG for take of sage-grouse. We will not make our final decision until after the end of the 30-day public comment period, and we will fully consider all comments we receive during the public comment period.

Dated: July 15, 2009.
David J. Wesley,
Deputy Regional Director, Region 1, U.S. Fish and Wildlife Service, Portland, Oregon.

[FR Doc. E9-17523 Filed 7-22-09; 8:45 am]

BILLING CODE 4310-55-P